DEPARTMENT OF LABOR

Occupational Safety and Health Administration

[Docket No. ICR 1218-0209-2000]

Proposed Information Collection Request Submitted for Public Comment and Recommendations; OSHA Data Initiative (1218-0209)

Correction

In notice document 00-16345, appearing on page 39944, in the issue of Wednesday, June 28, 2000, make the following correction:

On page 39944, in the second column, above the SUPPLEMENTARY INFORMATION heading, the web address should read “http://www.osha-slc.gov/OCIS/Info_coll.html”.

[FR Doc. C0-16345 Filed 7-5-00; 8:45 am]

BILLING CODE 1505-01-D

DEPARTMENT OF TRANSPORTATION

Federal Aviation Administration

14 CFR Part 71

[Airspace Docket No. 99-AEA-16.FR]

Amendment to Class E Airspace: Brownsville, PA

Correction

In rule document 00-1053 appearing on page 2539 in the issue of Tuesday, January 18, 2000, make the following correction:

§71.1 [Corrected]

In the third column, after the row of stars, and before the paragraph beginning “That airspace extending. . .. ”, insert the following:

AEA PA E5,Brownsville, PA

Brownsville Hospital Heliport, PA

(lat. 400013.11, long. 795141.97

[FR Doc. C0-1053 Filed 7-5-00; 8:45 am]

BILLING CODE 1505-01-D